DEPARTMENT OF COMMERCE

National Oceanic and Atmospheric Administration

Meeting of the Advisory Committee on Commercial Remote Sensing

AGENCY: National Oceanic and Atmospheric Administration, Department of Commerce.

ACTION: Notice of Public Meeting.

SUMMARY: The Advisory Committee on Commercial Remote Sensing (ACCRES) will meet June 30, 2015.

DATES: The meeting is scheduled as follows: June 30, 2015, 9:00 a.m.-12:00 p.m. The meeting will be open to the public.

ADDRESSES: The meeting will be held at the Department of Commerce Room 1412, 1401 Constitution Avenue, Washington, DC 20230.

SUPPLEMENTARY INFORMATION: As required by section 10(a)(2) of the Federal Advisory Committee Act, 5 U.S.C. App. (1982), notice is hereby given of the meeting of ACCRES. ACCRES was established by the Secretary of Commerce (Secretary) on May 21, 2002, to advise the Secretary through the Under Secretary of Commerce for Oceans and Atmosphere on long- and short-range strategies for the licensing of commercial remote sensing satellite systems.

Matters To Be Considered

The meeting will be open to the public pursuant to Section 10(d) of the Federal Advisory Committee Act, 5 U.S.C. App. 2, as amended by Section 5(c) of the Government in Sunshine Act, Public Law 94-409 and in accordance with Section 552b(c)(1) of Title 5, United States Code.

The Committee will receive a presentation on commercial remote sensing issues and updates of NOAA's licensing activities. The committee will also receive comments on its activities.

Special Accommodations

These meetings are physically accessible to people with disabilities. Requests for special accommodations may be directed to ACCRES, NOAA/NESDIS/CRSRA, 1335 East West Highway, Room 8260, Silver Spring, Maryland 20910.

Additional Information and Public Comments

Any member of the public wishing further information concerning the meeting or who wishes to submit oral or written comments should contact Tahara Dawkins, Designated Federal Officer for ACCRES, NOAA/NESDIS/CRSRA, 1335 East West Highway, Room 8260, Silver Spring, Maryland 20910. Copies of the draft meeting agenda can be obtained from Richard James at (301) 713-0572, fax (301) 713-1249, or email Richard.James@noaa.gov.

The ACCRES expects that public statements presented at its meetings will not be repetitive of previously-submitted oral or written statements. In general, each individual or group making an oral presentation may be limited to a total time of five minutes. Written comments (please provide at least 15 copies) received in the NOAA/NESDIS/CRSRA on or before June 15, 2015; will be provided to Committee members in advance of the meeting. Comments received too close to the meeting date will normally be provided to Committee members at the meeting.

FOR FURTHER INFORMATION CONTACT: Tahara Dawkins, NOAA/NESDIS/CRSRA, 1335 East West Highway, Room 8260, Silver Spring, Maryland 20910; telephone (301) 713-3385, fax (301) 713-1249, email Tahara.Dawkins@noaa.gov, or Richard James at telephone (301) 713-0572, email Richard.James@noaa.gov.

Tahara Dawkins,
Director, Commercial Remote Sensing and Regulatory Affairs.

[FR Doc. 2015-13439 Filed 6-2-15; 8:45 am]

BILLING CODE 3510-HR-P